DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EMSSAB), Idaho National Engineering and Environmental Laboratory. The Federal Advisory Committee Act (Pub. L. 92-463, 86 Stat. 770) requires that public notice of these meetings be announced in the Federal Register.

DATES: Tuesday, September 21, 2004, 8 a.m.-6 p.m.,Wednesday, September 22, 2004, 8 a.m.-5 p.m.

Opportunities for public participation will be held Tuesday, September 21, from 12:15 to 12:30 p.m. and 5:45 to 6 p.m., and on Wednesday, September 22, from 11:45 a.m. to 12 noon and 3:30 to 3:45 p.m. Additional time may be made available for public comment during the presentations.

These times are subject to change as the meeting progresses, depending on the extent of comment offered. Please check with the meeting facilitator to confirm these times.

ADDRESSES: Sun Valley Inn, One Sun Valley Road, Sun Valley, ID 83353.

FOR FURTHER INFORMATION CONTACT: Ms. Peggy Hinman, INEEL CAB Administrator, North Wind, Inc., P.O. Box 51174, Idaho Falls, ID 83405, Phone (208) 557-7885, or visit the Board's Internet home page at http://www.ida.net/users/cab.

SUPPLEMENTARY INFORMATION: Purpose of the Board: The purpose of the Board is to make recommendations to DOE in the areas of environmental restoration, waste management, and related activities.

Tentative Topics (agenda topics may change up to the day of the meeting; please contact Peggy Hinman for the most current agenda or visit the CAB's Internet site at http://www.ida.net/users/cab/):

• Snake River Aquifer Protection.

• Waste With No Path for Disposition (Orphan Waste).

• Site-wide Groundwater Monitoring, Including Results of Annual Off-site and On-site Environmental Monitoring.

• Test Reactor Area Catch Tanks.

• Fast Flux Text Facility Decommissioning Impacts to INEEL.

• The Chemical Processing Plant at INEEL.

• Other Issues and Topics of Interest.

Public Participation: This meeting is open to the public. Written statements may be filed with the Board facilitator either before or after the meeting. Individuals who wish to make oral presentations pertaining to agenda items should contact the Board Chair at the address or telephone number listed above. Request must be received five days prior to the meeting and reasonable provisions will be made to include the presentation in the agenda. The Deputy Designated Federal Officer, Richard Provencher, Assistant Manager for Environmental Management, Idaho Operations Office, U.S. Department of Energy, is empowered to conduct the meeting in a fashion that will facilitate the orderly conduct of business. Every individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Peggy Hinman, INEEL CAB Administrator, at the address and phone number listed above.

Issued at Washington, DC, on August 19, 2004.
Rachel Samuel,
Deputy Advisory Committee Management Officer.

[FR Doc. 04-19420 Filed 8-24-04; 8:45 am]

BILLING CODE 6450-01-P